DEPARTMENT OF ENERGY

Federal Energy Regulatory Commission

[Project Nos. 710-038]

Wolf River Hydro Limited Partnership; Notice of Availability of Environment Assessment

August 29, 2006.

In accordance with the National Environmental Policy Act of 1969 and the Federal Energy Regulatory Commission's regulations, the Office of Energy Projects has reviewed the application for amendment of license for the Shawano Project (FERC No. 710), filed with the Commission on April 27, 2006. The project is located on the Wolf River, in Shawano County, Wisconsin. An environmental assessment (EA) has been prepared.

In the EA, the Commission's staff concludes that approval of the licensee's application, as modified by the Commission, would not constitute a major federal action significantly affecting the quality of the human environment.

A copy of the EA is attached to a Commission order titled “Order Amending License”, issued August 28, 2006, and is available at the Commission's Public Reference Room. A copy of the EA may also be viewed on the Commission's Web site at http://www.ferc.gov using the “elibrary” link. Enter the docket number (P-710) in the docket field to access the document. For assistance, call (202) 502-8222 or (202) 502-8659 (for TTY).

Magalie R. Salas,
Secretary.

[FR Doc. E6-15148 Filed 9-12-06; 8:45 am]

BILLING CODE 6717-01-P